DEPARTMENT OF HEALTH AND HUMAN SERVICES

Administration for Community Living

Agency Information Collection Activities; Proposed Collection; Public Comment Request; Senior Medicare Patrol (SMP) Program National Beneficiary Survey

AGENCY: Administration for Community Living, HHS.

ACTION: Notice.

SUMMARY: The Administration for Community Living (ACL) is announcing that the proposed collection of information listed above has been submitted to the Office of Management and Budget (OMB) for review and clearance under the Paperwork Reduction Act of 1995.

DATES: Submit written comments on the collection of information by December 8, 2016.

ADDRESSES: Submit written comments on the collection of information by fax 202-395-5806 or by email to OIRA_submission@omb.eop.gov, Attn: OMB Desk Officer for ACL.

FOR FURTHER INFORMATION CONTACT: Katherine Glendening by phone: 202-795-7350 or email: Katherine.Glendening@acl.hhs.gov.

SUPPLEMENTARY INFORMATION: In compliance with section 44 U.S.C. 3507, ACL has submitted the following proposed collection of information to OMB for review and clearance.

Proposed Collection: Evaluation of the Senior Medicare Patrols (SMP) program, U.S. Department of Health and Human Services (HHS), U.S. Administration for Community Living (ACL).

Need and Use of Information Collection: The SMP Customer Satisfaction Survey is a survey of individuals who attend Senior Medicare Patrol (SMP) presentations to understand the potential for fraud, waste, and abuse within health care programs generally and Medicare/Medicaid specifically. The Senior Medicare Patrols Program (SMP) was created under Titles II and IV of the Older Americans Act (42 U.S.C. 3032), the amendments of 2006 (Pub. L. 109-365) and the Health Insurance Portability and Accountability Act of 1996 (Pub. L. 104-191). The mission of the SMP program is to empower and assist Medicare beneficiaries, their families, and caregivers to prevent, detect, and report health care fraud, errors, and abuse through outreach, counseling, and education. The SMP program empowers Medicare beneficiaries through increased awareness and understanding of healthcare programs and helps them protect themselves from the economic and health-related consequences of Medicare fraud, waste, and abuse. The SMP program provides services through a national network of SMP grantees that are located in every state, the District of Columbia, Puerto Rico, and Guam. In 2014, SMPs conducted more than 14,000 education session presentations, with a total audience of 450,000 individuals. The survey will focus on education session presentations and the individuals who attend them, to determine if the target audience is satisfied with the information they are receiving. While the SMP program currently tracks output and outcome measures such as number of SMP Team members, group outreach and education events, individual interactions, and savings, customer satisfaction is not one of them. As a result, there is no current understanding of the link between the quality of the information received and the likelihood to avoid healthcare fraud, errors, and abuse.

Comments in Response to the 60-Day Federal Register Notice

A notice was published in the Federal Register in Vol. 81, No. 125/Wednesday, June 29, 2016, Pages 42360-42361, announcing that ACL was requesting approval of a data collection (ICR New). No comments were received.

Estimated Data Burden

The SMP survey will be conducted over a three-year period beginning in Fiscal Year 2017 (FY 2017). Sites in each of the 50 states, the District of Columbia, and the territories of Guam and Puerto Rico will be surveyed once during the three-year period. Results from the surveys will be used to understand satisfaction among individuals who attend SMP education sessions, as well as how the program can be improved to provide better service to its target population. Eighteen (18) unique states/territories will be surveyed in FY17, with each state or territory expected to generate 75 unique responses, for a total of 1,350 individual responses in Year 1. This process will then be replicated in Year 2 (FY18), with a different group of 18 states and territories being surveyed. In Year 3 (FY19), the final 17 states/territories will be surveyed. By the end of FY19, SMP will obtain 3,975 completed surveys to measure satisfaction at the national level (53 states/territories × 75 responses per state/territory). SMP will use the following factors to draw a representative sample of education session attendees:

• Randomly select 18 states and territories to be surveyed in Years 1 and 2 and 17 states/territories in Year 3, with the states/territories stratified by the average number of education session attendees per month.

• Survey a specific site no more than once.

• Sample from at least five presenters in each state/territory.

• Survey no fewer than five events and no more than 20 events in each state/territory.

• Survey no more than two events per month in each state/territory.

To generate a sample with a 95% confidence level at the national level, a minimum of 384 responses will be required, which is based on over 450,000 education session attendees in 2014. SMP anticipates collecting 75 completed surveys per state/territory, for a total collection of 3,975 completed surveys. This larger collection will enable ACL to make state-to-state comparisons, which is an important feature of this survey. Specifically, state-to-state comparisons will allow ACL to identify which states/territories are providing the best services to their beneficiaries, and what best practices can be shared across states/territories. The larger collection will also provide each state/territory with sufficient information to take local action to improve service within budgetary constraints.

The proposed survey instrument may be viewed on the ACL Web site: http://www.acl.gov/Programs/CIP/OHIC/index.aspx.

OMB approval is requested for 3 years. There are no costs to respondents other than their time. The average annual burden associated with these activities is summarized below:

Respondent type | Number of respondents | Responses per respondent | Average burden hours per response (hrs) | Total average annual burden (hrs)
Stratified Random Sample | 1,325 | 1 | 5/60 | 110.4

Dated: October 27, 2016.
Edwin L. Walker,
Acting Administrator and Assistant Secretary for Aging.

[FR Doc. 2016-26923 Filed 11-7-16; 8:45 am]

BILLING CODE 4154-01-P